DEPARTMENT OF AGRICULTURE

Animal and Plant Health Inspection Service

[Docket No. APHIS-2006-0071]

Notice of Request for Approval of an Information Collection; Beetle Busters Survey; Asian Longhorned Beetle Cooperative Eradication Program

AGENCY: Animal and Plant Health Inspection Service, USDA.

ACTION: New information collection; comment request.

SUMMARY: In accordance with the Paperwork Reduction Act of 1995, this notice announces the Animal and Plant Health Inspection Service's intention to initiate a new information collection activity, titled Beetle Busters Survey, associated with the Asian longhorned beetle cooperative eradication program.

DATES: We will consider all comments that we receive on or before July 25, 2006.

ADDRESSES: You may submit comments by either of the following methods:

Federal eRulemaking Portal: Go to http://www.regulations.gov and, in the lower “Search Regulations and Federal Actions” box, select “Animal and Plant Health Inspection Service” from the agency drop-down menu, then click on “Submit.” In the Docket ID column, select APHIS-2006-0071 to submit or view public comments and to view supporting and related materials available electronically. Information on using Regulations.gov, including instructions for accessing documents, submitting comments, and viewing the docket after the close of the comment period, is available through the site's “User Tips” link.

Postal Mail/Commercial Delivery: Please send four copies of your comment (an original and three copies) to Docket No. APHIS-2006-0071, Regulatory Analysis and Development, PPD, APHIS, Station 3A-03.8, 4700 River Road Unit 118, Riverdale, MD 20737-1238. Please state that your comment refers to Docket No. APHIS-2006-0071.

Reading Room: You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: For information on the Beetle Busters Survey, contact Ms. Meghan K. Thomas, Deputy Director, Public Affairs, LPA, APHIS, 4700 River Road Unit 51, Riverdale, MD 20737; (301) 734-3266. For copies of more detailed information on the information collection, contact Mrs. Celeste Sickles, APHIS' Information Collection Coordinator, at (301) 734-7477.

SUPPLEMENTARY INFORMATION: Title: Beetle Busters Survey; Asian Longhorned Beetle Cooperative Eradication Program.

OMB Number: 0579-XXXX.

Type of Request: Approval of a new information collection.

Abstract: The Asian longhorned beetle (ALB, Anoplophora glabripennis), an insect native to China, Japan, Korea, and the Isle of Hainan, is a destructive pest of hardwood trees. It attacks many healthy hardwood trees, including maple, horse chestnut, birch, poplar, willow, and elm. The beetle bores into the heartwood of a host tree, eventually killing the tree. Immature beetles bore into tree trunks and branches, causing heavy sap flow from wounds and sawdust accumulation at tree bases. They feed on, and over-winter in, the interiors of trees. Adult beetles emerge in the spring and summer months from round holes approximately three-eighths of an inch in diameter (about the size of a dime) that they bore through branches and trunks of trees. After emerging, adult beetles feed for 2 to 3 days and then mate. Adult females then lay eggs in oviposition sites that they make on the branches of trees. A new generation of ALB is produced each year. If this pest moves into the hardwood forests of the United States, the nursery, maple syrup, and forest product industries could experience severe economic losses. In addition, urban and forest ALB infestations will result in environmental damage, aesthetic deterioration, and a reduction in public enjoyment of recreational spaces. If the ALB were to become established in North America, approximately 1.2 billion trees would be at risk of being infested, resulting in potential losses of up to $669 billion.

The U.S. Department of Agriculture's Animal and Plant Health Inspection Service (APHIS) has administered an ALB Cooperative Eradication Program (the program) since 1996 to eradicate this destructive pest from the United States. Areas found to be infested are quarantined, and the movement of host material from the area is restricted to prevent the spread of the ALB. Infested host material is removed or treated. Successful eradication efforts have resulted in a number of infested areas being removed from quarantine, and, over the years, the program has made steady progress. However, the ALB continues to be a serious threat, and APHIS believes that public support is crucial to eradication efforts.

In this regard, APHIS plans to enlist the public's assistance in reporting the presence or absence of the ALB in their local areas. APHIS would invite members of the public to report the results of any surveys they conduct using a simple on-line form on the Internet to record sightings and nonsightings. Such reports of surveys for the ALB conducted by members of the general public, nature organizations, school groups, garden clubs, and others would help APHIS develop a history of the ALB's presence and activity in particular areas and supplement the work done by the program's surveyors. If the public reports signs of the ALB, APHIS would take appropriate steps to determine whether the ALB is indeed present in the area and to what extent. In turn, negative reports would help APHIS affirm the absence of ALB in a particular area and facilitate progress towards deregulation of the area.

APHIS is asking the Office of Management and Budget for approval of this information collection activity in support of ALB eradication for 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.083 hours per response.

Respondents: General public, nature organizations, school groups, and garden clubs.

Estimated annual number of respondents: 5,000.

Estimated annual number of responses per respondent: 1.

Estimated annual number of responses: 5,000.

Estimated total annual burden on respondents: 415 hours. (Due to averaging, the total annual burden hours may not equal the product of the annual number of responses multiplied by the reporting burden per response.)

All responses to this notice will be summarized and included in the request for OMB approval. All comments will also become a matter of public record.

Done in Washington, DC, this 22nd day of May 2006.
Elizabeth E. Gaston,
Acting Administrator, Animal and Plant Health Inspection Service.

[FR Doc. E6-8141 Filed 5-25-06; 8:45 am]

BILLING CODE 3410-34-P